LEGAL SERVICES CORPORATION

Sunshine Act Meeting; Meeting of the Board of Directors Operations and Regulations Committee

TIME AND DATE: The Operations and Regulations Committee of the Legal Services Corporation's Board of Directors will meet on April 14, 2000. The meeting will begin at 2:30 p.m. and continue until the Committee concludes its agenda.

LOCATION: Marriott Wardman Park Hotel, 2660 Woodley Road, NW, Washington, DC 20008.

STATUS OF MEETING: Open.

MATTERS TO BE CONSIDERED:

1. Approval of agenda.

2. Consider and act on proposed Operations and Regulations Committee procedures.

3. Consider and act on other business.

4. Public Comment.

CONTACT PERSON FOR INFORMATION: Victor M. Fortuno, Vice President for Legal Affairs, General Counsel and Secretary of the Corporation, at (202) 336-8800.

SPECIAL NEEDS: Upon request, meeting notices will be made available in alternate formats to accommodate visual and hearing impairments. Individuals who have a disability and need an accommodation to attend the meeting may notify Shannon Nicko Adaway, at (202) 336-8800.

Dated: April 4, 2000.
Victor M. Fortuno,
Vice President for Legal Affairs, General Counsel and Corporate Secretary.

[FR Doc. 00-8746 Filed 4-5-00; 12:45 pm]

BILLING CODE 7050-01-P